HARRY S. TRUMAN SCHOLARSHIP FOUNDATION

Harry S. Truman Scholarship 2002 Competition

AGENCY: Harry S. Truman Scholarship Foundation.

ACTION: Notice of closing for nominations from eligible institutions of higher education.

SUMMARY: Notice is hereby given that, pursuant to the authority contained in the Harry S. Truman Memorial Scholarship Act, Pub. L 93-642 (20 U.S.C. 2001), nominations are being accepted from eligible institutions of higher education for 2002 Truman Scholarships. Procedures are prescribed at 45 CFR 1801.

In order to be assured consideration, all documentation in support of nominations must be received by the Truman Scholarship Foundation, 712 Jackson Place, NW., Washington, DC 20006 no later than January 28, 2002 from participating institutions.

Dated: January 3, 2002.
Louis H. Blair,
Executive Secretary.

[FR Doc. 02-593 Filed 1-9-02; 8:45 am]

BILLING CODE 6820-AD-M